DEPARTMENT OF TRANSPORTATION

Federal Aviation Administration

[Policy Statement No. ANM-03-115-05]

No Smoking Placards and Signs

AGENCY: Federal Aviation Administration (FAA), DOT.

ACTION: Notice of final policy.

SUMMARY: The Federal Aviation Administration (FAA) announces the availability of final policy on no-smoking placards.

DATES: This final policy was issued by the Transport Airplane Directorate on July 7, 2003.

FOR FURTHER INFORMATION CONTACT: Michael T. Thompson, Federal Aviation Administration, Transport Airplane Directorate, Transport Standards Staff, Airframe and Cabin Safety Branch, ANM-115, 1601 Lind Avenue SW., Renton, WA 98055-4056; telephone (425) 227-1157; fax (425) 227-1149; e-mail: michael.t.thompson@faa.gov.

SUPPLEMENTARY INFORMATION:

Discussion of Comments

A notice of proposed policy as published in the Federal Register on March 17, 2003 (68 FR 12735). No comments were received.

Background

The policy further simplifies the certification process pertaining to the requirement for no-smoking placards legible to each occupant seated in compartments where smoking is prohibited. The FAA has determined that a lighted sign can be considered a placard if it is continuously illuminated for the occupants. These signs should illuminate without the cockpit or cabin crew having to turn the signs on, which the airplane's normal electrical power is on or by providing equivalent control of the signs by software. The policy allows the signs to not be operable by the crew by documenting an equivalent safety finding.

The final policy is available on the Internet at the following address: http://www.airweb.faa.gov/rgl. If you do not have access to the Internet, you can obtain a copy of the policy by contacting the person listed under FOR FURTHER INFORMATION CONTACT.

Issued in Renton, Washington, on July 7, 2003.
Ali Bahrami,
Acting Manager, Transport Airplane Directorate, Aircraft Certification Service.

[FR Doc. 03-18519 Filed 7-21-03; 8:45 am]

BILLING CODE 4910-13-M